DEPARTMENT OF COMMERCE

International Trade Administration, North American Free-Trade Agreement, Article 1904 NAFTA Panel Reviews; Completion of Panel Review

AGENCY: NAFTA Secretariat, United States Section, International Trade Administration, Department of Commerce.

ACTION: Notice of Completion of Panel Review of the final determination of dumping made by the Canada Border Services Agency, in the matter of Certain Copper Pipe Fittings Originating in or Exported From the United States of America, Secretariat File No. CDA-USA-2007-1904-01.

SUMMARY: Pursuant to the Notice of Motion to Terminate this panel review, which was filed with the Canadian Section of the NAFTA Secretariat on April 10, 2007, this panel review is completed.

FOR FURTHER INFORMATION CONTACT: Caratina L. Alston, United States Secretary, NAFTA Secretariat, Suite 2061, 14th and Constitution Avenue, Washington, DC 20230, (202) 482-5438.

SUPPLEMENTARY INFORMATION: On March 2, 2007, Mueller Industries, Inc. (Memphis, Tennessee), Streamline Copper & Brass Ltd. (Strathroy, Ontario) and affiliated companies within the Mueller Group filed a Request for Panel Review in the above referenced matter with the Canadian Section of the NAFTA Secretariat.

On April 10, 2007, Mueller Industries, Inc. (Memphis, Tennessee), Streamline Copper & Brass Ltd. (Strathroy, Ontario) and affiliated companies within the Mueller Group filed a Notice of Motion requesting termination of this panel review. No other interested person filed a request for Panel Review of this final determination. As of April 10, 2007, no Complaint or Notice of Appearance has been filed by any interested person. Therefore, pursuant to subrules 71(2) and 78(a) of the NAFTA Article 1904 Panel Rules, this Notice of Completion of Panel Review was effective on April 10, 2007.

Dated: April 12, 2007.
Caratina L. Alston,
United States Secretary NAFTA Secretariat.

[FR Doc. E7-7298 Filed 4-17-07; 8:45 am]

BILLING CODE 3510-GT-P